OFFICE OF MANAGEMENT AND BUDGET

Rescission Proposals Pursuant to the Congressional Budget and Impoundment Control Act of 1974

AGENCY: Executive Office of the President, Office of Management and Budget.

ACTION: Notice of rescissions.

SUMMARY: Pursuant to section 1014(d) of the Congressional Budget and Impoundment Control Act of 1974, enclosed for publication in the Federal Register is a special message from the President reflecting the proposals for rescission under section 1012 of that Act that were transmitted to the Congress for consideration on January 14, 2021.

DATES: The Congress was notified on January 14, 2021.

ADDRESSES: The rescissions proposal package is available on-line on the OMB home page at: https://www.whitehouse.gov/omb/budget-rescissions-deferrals/.

Russell T. Vought,
Director.

Dear Madam Speaker: (Dear Mr. President:)

In accordance with section 1012(a) of the Congressional Budget and Impoundment Control Act of 1974 (2 U.S.C. 683(a)), I herewith report 73 rescissions of budget authority, totaling $27.4 billion.

The proposed rescissions affect programs of the Departments of Agriculture, Commerce, Education, Energy, Health and Human Services, Homeland Security, the Interior, Justice, Labor, State, and the Treasury, as well as the African Development Foundation, the Commission of Fine Arts, the Corporation for National and Community Service, the District of Columbia, the Environmental Protection Agency, the Inter-American Foundation, the Millennium Challenge Corporation, the National Endowments for the Arts and Humanities, the National Gallery of Art, the Peace Corps, the Presidio Trust, the United States Agency for International Development, the United States Army Corps of Engineers, and the Woodrow Wilson International Center for Scholars.

The details of these rescissions are set forth in the enclosed letter from the Director of the Office of Management and Budget.

Sincerely,

Donald J. Trump

January 14, 2021

The President

The White House

Dear Mr. President:

Submitted for your consideration is a special message that includes rescission proposals for the Departments of Agriculture, Commerce, Education, Energy, Health and Human Services, Homeland Security, the Interior, Justice, Labor, State, and the Treasury, as well as the African Development Foundation, the Commission of Fine Arts, the Corporation for National and Community Service, the District of Columbia, the Environmental Protection Agency, the Inter-American Foundation, the Millennium Challenge Corporation, the National Endowments for the Arts and Humanities, the National Gallery of Art, the Peace Corps, the Presidio Trust, the United States Agency for International Development (USAID), the United States Army Corps of Engineers, and the Woodrow Wilson International Center for Scholars.

The Administration is proposing these rescissions of enacted appropriations in accordance with section 1012(a) of the Congressional Budget and Impoundment Control Act of 1974 (ICA) (2 U.S.C. 683(a)). As you requested in your statement on December 27, this special message identifies wasteful and unnecessary spending that must be removed from the Consolidated Appropriations Act, 2021, as well as other amounts that are no longer needed for the purposes for which they were appropriated.

This special message emphasizes the need to cut wasteful foreign aid spending at the Department of State and USAID and other international affairs agencies, while also proposing targeted cuts to programs across the Federal Government where the funding provided by the bill seems particularly egregious, especially in the context of the economic hardship that was caused by the pandemic.

This special message proposes to rescind $27.4 billion in budget authority, the largest ICA rescission package ever proposed. If enacted, these rescissions would decrease Federal outlays in the affected accounts by an estimated $24.9 billion; this would have a commensurate effect on the Federal budget deficit and the national economy, and would result in less borrowing by the Federal Government.

In addition to the items included in the attached special message, there are numerous provisions in the Consolidated Appropriations Act, 2021 (Pub. L. 116-260), that are not subject to rescission under the ICA but nonetheless contribute to the Nation's unsustainable fiscal path. These include, for example, extensions of energy tax credits including the Investment Tax Credit and Production Tax Credit. Even during the pandemic, industries supported by these tax credits have continued to grow, and they have achieved full maturity, no longer needing costly Federal support. We look forward to working with the Congress to identify additional opportunities to reduce unnecessary Federal subsidies and put the Nation's fiscal house back in order.

Recommendation

I recommend you transmit a special message that includes these rescission proposals to the Congress.

Sincerely,

Russell T. Vought

Director

Enclosures

PROPOSED RESCISSION OF BUDGET AUTHORITY

Report Pursuant to Section 1012 of the Congressional Budget and Impoundment Control Act of 1974 (2 U.S.C. 683)

Rescission proposal no. R21-1

Agency: DEPARTMENT OF AGRICULTURE

Bureau: Rural Business-Cooperative Service

Account: Rural Energy for America Program (012-1908/X)

Amount proposed for rescission: $10,000,000

Justification:

This proposal would rescind $10 million, the full amount appropriated in FY 2021 for a new renewable energy pilot program. This assistance would be duplicative of existing loan guarantee and grant programs at the Department of Agriculture, Rural Development. Furthermore, the Budget proposes to eliminate these programs because they are wasteful and provided over a billion dollars over 10 years to successful businesses that qualify for private sector capital. Government funding is appropriation for early-stage research, not deployment of commercially available technologies. Enacting the rescission would eliminate the program.

Rescission proposal no. R21-2

Agency: DEPARTMENT OF AGRICULTURE

Bureau: Foreign Agricultural Service

Account: Food for Peace Title II Grants (012-2278/X)

Amount proposed for rescission: $1,528,699,234

Justification:

This proposal would rescind $1.5 billion of the $1.7 billion appropriated in FY 2021 for Food for Peace Title II Grants. While Title II is one component of U.S. emergency overseas food aid, it is inefficient and inflexible compared to emergency food aid provided through the International Disaster Assistance account. These funds far exceed the FY 2021 Budget request level for humanitarian assistance, which combined with other available resources average nearly $9 billion annually—funding sufficient to allow the second highest annual U.S. humanitarian assistance programming ever in calendar years 2020 and 2021. Enacting the rescission would eliminate the portion of Title II funding that remains unobligated and encourage greater contributions from other nations and provide savings to the U.S. taxpayer while retaining America's position as the largest single donor.

Rescission proposal no. R21-3

Agency: DEPARTMENT OF AGRICULTURE

Bureau: Foreign Agricultural Service

Account: McGovern-Dole International Food for Education and Child Nutrition Program Grants (012-2903/X)

Amount proposed for rescission: $230,000,000

Justification:

This proposal would rescind $230 million, the full amount appropriated in FY 2021 for McGovern-Dole International Food Program. This program provides for the donation of U.S. agricultural commodities and associated financial and technical assistance in foreign countries, a service which is duplicative to that of the U.S. Agency for International Development. The program has high costs associated with transporting commodities and it has unaddressed oversight and performance monitoring challenges. During the 17-year operation of McGovern-Dole, auditors have found oversight weaknesses as reported by the Government Accountability Office (GAO), independent consultants, and the Department of Agriculture's Office of Inspector General. GAO has found weakness in performance monitoring, program evaluations, and prompt closeout of agreements. GAO has also found inefficiencies with in-kind food aid, such as McGovern-Dole, resulting in higher costs. Enacting the rescission would eliminate the program.

Rescission proposal no. R21-4

Agency: DEPARTMENT OF COMMERCE

Bureau: National Oceanic and Atmospheric Administration

Account: Operations, Research, and Facilities (013-1450 2021/2022)

Amount proposed for rescission: $181,097,000

Justification:

This proposal would rescind $181 million of the $285 million appropriated in FY 2021 for the National Oceanic and Atmospheric Administration's (NOAA) Climate Research programs, a new water resource cooperative institute, and Sea Grant. NOAA's climate research programs fund a wide range of intramural and extramural activities and tools for decision making. The direction to establish a new, unrequested cooperative institute causes serious concerns, as NOAA already addresses many of these issues within existing programs. Those underlying programs themselves deserve review, as in the past they have supported activities such as local tourism efforts and rain garden education, both of which are more appropriately funded at the local level. A new institute also creates long term funding obligations that will negatively impact NOAA's ability to focus on higher priority activities. Enacting the rescission would eliminate funding for NOAA's Climate Competitive Research program and Sea Grant in excess of what is needed to achieve Administration objectives and eliminate the direction to establish a new, costly, unrequested cooperative institute.

Rescission proposal no. R21-5

Agency: DEPARTMENT OF COMMERCE

Bureau: National Oceanic and Atmospheric Administration

Account: Pacific Coastal Salmon Recovery (013-1451 2021/2022)

Amount proposed for rescission: $64,500,000

Justification:

This proposal would rescind $64.5 million of the $65 million appropriated in FY 2021 for the Pacific Coastal Salmon Recovery Fund (PCSRF). PSCRF provides competitive grants to states and tribes for salmon restoration projects. These funds would be used for projects such as habitat improvements and dam removal, unnecessarily augmenting existing state and tribal efforts and favoring a region and certain species. Enacting the rescission would eliminate the program.

Rescission proposal no. R21-6

Agency: DEPARTMENT OF EDUCATION

Bureau: Office of Federal Student Aid

Account: Student Financial Assistance (091-0200 2021/2022)

Amount proposed for rescission: $880,000,000

Justification:

This proposal would rescind $880 million of the $24.5 billion appropriated in FY 2021 for the Student Financial Assistance account. The Federal Supplemental Educational Opportunity Grant (SEOG) program provides need-based grant aid to eligible undergraduate students to help reduce financial barriers to postsecondary education. The SEOG program is not optimally allocated based on a student's financial need and is duplicative of other need-based financial aid programs, such as Pell Grants. Enacting the rescission would eliminate the program.

Rescission proposal no. R21-7

Agency: DEPARTMENT OF EDUCATION

Bureau: Office of Federal Student Aid

Account: Federal Direct Student Loan Program (091-0243/X)

Amount proposed for rescission: $50,000,000

Justification:

This proposal would rescind $50 million, the full amount appropriated in FY 2021 for Temporary Expanded Public Service Loan Forgiveness (TEPLSF). TEPSLF provides loan forgiveness for certain Federal student loan borrowers working in public service who do not qualify for Public Service Loan Forgiveness. The $50 million is not necessary because the Congress has previously allocated $750 million, which provides for up to $1.075 billion in loan forgiveness, for this purpose and most of that money has not yet been spent. Under this rescission, these public service employees would still have access to up to $1.075 billion in loan forgiveness through TEPSLF as well as income-driven repayment plans that are available to other borrowers. These repayment plans are generous in that they allow for affordable monthly payments and permit eventual loan forgiveness. Enacting the rescission would reduce the amount of loan forgiveness provided under TEPSLF, which the Congress has just increased to $1.15 billion, by up to $75 million, leaving up to $1.075 billion in loan forgiveness available.

Rescission proposal no. R21-8

Agency: DEPARTMENT OF ENERGY

Bureau: Energy Programs

Account: Science (089-0222/X)

Amount proposed for rescission: $1,186,500,000

Justification:

This proposal would rescind $1.2 billion of the $2.3 billion in emergency funding appropriated in FY 2021 for the Office of Science (SC). SC funds scientific research and major scientific facilities as a sponsor of basic research in the physical sciences and fundamental energy research. SC supports ten national laboratories, university research, scientific and medical isotope development and production, and workforce development programs. Funding designated as emergency would be used to support facility operations and modernization, which are not an emergency function. Enacting the rescission would focus resources on high priority activities within SC.

Rescission proposal no. R21-9

Agency: DEPARTMENT OF ENERGY

Bureau: Energy Programs

Account: Advanced Research Projects Agency—Energy (089-0337 2021/2022)

Amount proposed for rescission: $13,744,000

Justification:

This proposal would rescind $14 million of the $35 million appropriated in FY 2021 for Advanced Research Projects Agency—Energy (ARPA-E) program direction. ARPA-E funds high-risk energy research and development projects. ARPA-E was first funded in 2009 through the American Reinvestment and Recovery Act as a new, separate office within the Department of Energy (DOE), however, it makes little strategic sense that ARPA-E exists independent of DOE's main applied research programs, especially when the research they fund is similar. These funds would be used to administer FY 2021 research and development solicitations and awards. This rescission would reduce administrative resources commensurate with eliminating the program. Enacting the rescission would maintain sufficient administrative funding to conduct close out activities.

Rescission proposal no. R21-10

Agency: DEPARTMENT OF ENERGY

Bureau: Energy Programs

Account: Advanced Research Projects Agency—Energy (089-0337/X)

Amount proposed for rescission: $392,000,000

Justification:

This proposal would rescind $392 million, the full amount of no-year funding appropriated in FY 2021 for Advanced Research Project Agency—Energy (ARPA-E). ARPA-E funds high-risk energy research and development projects. ARPA-E was first funded in 2009 through the American Reinvestment and Recovery Act as a new, separate office within the Department of Energy (DOE), however, it makes little strategic sense that ARPA-E exists independent of DOE's main applied research programs, especially when the research they fund is similar. This elimination would enable a streamlining of Federal energy research and development activities, promotes a clearer focus on early-stage research and development, where the Federal role is strongest, and reflects the private sector's role in commercializing technologies. Enacting the rescission would eliminate the program.

Rescission proposal no. R21-11

Agency: DEPARTMENT OF ENERGY

Bureau: Energy Programs

Account: Energy Efficiency and Renewable Energy (089-0321 2021/2022)

Amount proposed for rescission: $42,437,000

Justification:

This proposal would rescind $42 million of the $165 million appropriated in FY 2021 for the Office of Energy Efficiency and Renewable Energy (EERE) program direction. EERE predominantly funds research, development, demonstration, and deployment (RDD&D) of transportation, renewable energy, and energy efficient technologies. These funds would be used for administrative expenses associated with RDD&D of energy technologies, which are activities that the private sector has a clear incentive to invest in. Enacting the rescission would rebalance the portfolio to more heavily favor early-stage research and development where the Federal role is strongest.

Rescission proposal no. R21-12

Agency: DEPARTMENT OF ENERGY

Bureau: Energy Programs

Account: Energy Efficiency and Renewable Energy (089-0321/X)

Amount proposed for rescission: $2,124,323,000

Justification:

This proposal would rescind $2.1 billion of the $2.9 billion appropriated in FY 2021 for the Office of Energy Efficiency and Renewable Energy (EERE). EERE predominantly funds research, development, demonstration, and deployment of transportation, renewable energy, and energy efficient technologies. These funds would be used for later stage development, demonstration, commercialization, and deployment of energy technologies which is more appropriate for the private sector to conduct. Enacting the rescission would rebalance the portfolio to more heavily favor early-stage research and development where the Federal role is strongest.

Rescission proposal no. R21-13

Agency: DEPARTMENT OF ENERGY

Bureau: Energy Programs

Account: Advanced Technology Vehicles Manufacturing Loan Program (089-0322 2021/2022)

Amount proposed for rescission: $5,000,000

Justification:

This proposal would rescind $5 million, the full amount appropriated in FY 2021 for the Advanced Technology Vehicle Manufacturing Loan Program (ATVM). ATVM provides direct loans to support the manufacturing of advanced technology vehicles and component parts. These funds would be used for administrative expenses associated with soliciting and originating new loans. The private sector is better positioned to finance the deployment of commercially viable advanced vehicle manufacturing projects. Sufficient carryover balances are available to monitor existing loans. Enacting this rescission would eliminate the program.

Rescission proposal no. R21-14

Agency: DEPARTMENT OF ENERGY

Bureau: Energy Programs

Account: Advanced Technology Vehicles Manufacturing Loan Program (089-0322/X)

Amount proposed for rescission: $2,425,499,814

Justification:

This proposal would rescind $2.4 billion, in addition to the $1.9 billion rescinded by the Consolidated Appropriations Act, 2021, of the funds appropriated in the Consolidated Security, Disaster Assistance, and Continuing Appropriations Act, 2009 for the Advanced Technology Vehicle Manufacturing Loan Program (ATVM). ATVM provides direct loans to support the manufacturing of advanced technology vehicles and component parts. The private sector is better positioned to finance the deployment of commercially viable advanced vehicle manufacturing projects. Enacting this rescission would eliminate the program.

Rescission proposal no. R21-15

Agency: DEPARTMENT OF ENERGY

Bureau: Energy Programs

Account: Title 17 Innovative Technology Loan Guarantee Program (089-0208 2021/2022)

Amount proposed for rescission: $29,000,000

Justification:

This proposal would rescind $29 million of the $32 million appropriated in FY 2021 for the Title XVII Innovative Technology Loan Guarantee Program (T17). T17 provides loans and loan guarantees to support the deployment of innovative energy technologies. These funds would be used for administrative expenses associated with soliciting and originating new loans. The private sector is better positioned to finance the deployment of commercially viable energy projects. Sufficient carryover balances are available to monitor existing loans. Enacting this rescission would eliminate the program.

Rescission proposal no. R21-16

Agency: DEPARTMENT OF ENERGY

Bureau: Energy Programs

Account: Title 17 Innovative Technology Loan Guarantee Program (089-0208/X)

Amount proposed for rescission: $160,659,356

Justification:

This proposal would rescind $161 million appropriated in FY 2011 for the cost of guaranteeing loans under the Title XVII Innovative Technology Loan Guarantee Program (T17). T17 provides loans and loan guarantees to support the deployment of innovative energy technologies. These funds would be used for the cost of guaranteeing loans. The private sector is better positioned to finance the deployment of commercially viable energy projects. Enacting this rescission would eliminate the origination of new loans using appropriated credit subsidy.

Rescission proposal no. R21-17

Agency: DEPARTMENT OF ENERGY

Bureau: Energy Programs

Account: Title 17 Innovative Technology Loan Guarantee Program (089-0209/X)

Amount proposed for rescission: $96,855,477

Justification:

This proposal would rescind $97 million, in addition to the $392 million rescinded by the Consolidated Appropriations Act, 2021, of the funds appropriated in the American Recovery and Reinvestment Act of 2009 for the Temporary Program for Rapid Deployment of Renewable Energy and Electric Power Transmission Projects (section 1705). Section 1705 provided loan guarantees to support the deployment of renewable power, biofuels, and electric transmission projects, but authority to enter into new loan guarantees expired in September 2011. Enacting this rescission would eliminate the use of the remaining balances to pay for the cost of modifying existing loans and loan guarantees.

Rescission proposal no. R21-18

Agency: DEPARTMENT OF HEALTH AND HUMAN SERVICES

Bureau: Centers for Disease Control and Prevention

Account: CDC-Wide Activities and Program Support (075-0943 2021/2021)

Amount proposed for rescission: $12,300,000

Justification:

This proposal would rescind $12.3 million of the $12.5 million appropriated in FY 2021, the remaining unobligated balance, for Firearm Injury and Mortality Prevention Research. The explanatory statement recommends that the Centers for Disease Control and Prevention (CDC) conduct further research on injury and mortality prevention related to firearms. These funds would be used for continuing research cooperative agreements through the CDC, which is a low priority for public health funds when CDC should be focused on addressing pressing concerns related to the COVID-19 pandemic and infectious diseases. Enacting the rescission would eliminate funding for these activities.

Rescission proposal no. R21-19

Agency: DEPARTMENT OF HEALTH AND HUMAN SERVICES

Bureau: National Institutes of Health

Account: Office of the Director (075-0846 2021/2021)

Amount proposed for rescission: $12,500,000

Justification:

This proposal would rescind $13 million, the amount specified in FY 2021 to continue research grants on firearm injury and mortality prevention. The explanatory statement recommends that the National Institutes of Health take a comprehensive approach to studying underlying causes and evidence-based methods of prevention of injury, including crime prevention. These funds would primarily be used to continue grants funded in FY 2020, which are low priority due to on-going COVID-19 pandemic response efforts and other types of biomedical research. Enacting the rescission would discontinue new firearm injury and mortality prevention grants awarded in FY 2021 and prior years.

Rescission proposal no. R21-20

Agency: DEPARTMENT OF HOMELAND SECURITY

Bureau: Office of the Secretary and Executive Management

Account: Operations and Support (070-0100 2021/2021)

Amount proposed for rescission: $13,750,000

Justification:

This proposal would rescind $14 million, the estimated remaining amount of one-year funding appropriated in FY 2021 for the Office of the Ombudsman for Immigration Detention. The Office is tasked with reviewing immigration detention standards, which is unnecessary and duplicative of monitoring and inspections by other Department of Homeland Security offices, including Immigration and Customs Enforcement and the Office of Inspector General. There is no need to add layers of bureaucracy when the work is already being done-especially at such a high cost to taxpayers. Enacting the rescission would eliminate the program and streamline the Department's efforts.

Rescission proposal no. R21-21

Agency: DEPARTMENT OF HOMELAND SECURITY

Bureau: Office of the Secretary and Executive Management

Account: Operations and Support (070-0100 2021/2022)

Amount proposed for rescission: $5,000,000

Justification:

This proposal would rescind $5 million, the full amount of two-year funding appropriated in FY 2021 for the Office of the Ombudsman for Immigration Detention. The Office is tasked with reviewing immigration detention standards, which is unnecessary and duplicative of monitoring and inspections by other Department of Homeland Security offices, including Immigration and Customs Enforcement and the Office of Inspector General. There is no need to add layers of bureaucracy when the work is already being done-especially at a high cost to taxpayers. Enacting the rescission would eliminate the program and streamline the Department's efforts.

Rescission proposal no. R21-22

Agency: DEPARTMENT OF HOMELAND SECURITY

Bureau: Office of the Secretary and Executive Management

Account: Federal Assistance (070-0416 2021/2022)

Amount proposed for rescission: $5,000,000

Justification:

This proposal would rescind $5 million, the full amount of funding appropriated in FY 2021 to the Alternatives to Detention (ATD) Case Management pilot program in the Office of the Secretary and Executive Management within the Department of Homeland Security. The $5 million proposed for rescission were to be transferred to the Federal Emergency Management Agency who would provide grants to nonprofit and local governments to create a pilot program for aliens enrolled in ATD. There is no need to develop a case management program when one already exists at Immigration and Customs Enforcement (ICE). This is yet another example of wasteful spending that does nothing to protect Americans. This money would be better spent on tangible security efforts, such as the border wall or increased ICE detention space. Enacting this rescission would eliminate this duplicative pilot program.

Rescission proposal no. R21-23

Agency: DEPARTMENT OF THE INTERIOR

Bureau: National Park Service

Account: National Recreation and Preservation (014-1042 2021/2022)

Amount proposed for rescission: $23,000,000

Justification:

This proposal would rescind $23 million of the $24 million appropriated in FY 2021 for the Heritage Partnership Program. The Heritage Partnership Program provides funding to National Heritage Areas, which are not part of the National Park System. The lands within heritage areas tend to remain in State, local, or private ownership. These grants to State and local entities are not a Federal responsibility and consequently do not need Federal dollars. Enacting the rescission would eliminate the program, and provide minimal resources to close-out and transition the program to the State, local, or private entities that manage the areas.

Rescission proposal no. R21-24

Agency: DEPARTMENT OF JUSTICE

Bureau: Office of Justice Programs

Account: State and Local Law Enforcement Assistance (015-0404/X)

Amount proposed for rescission: $244,000,000

Justification:

The proposal would rescind $244 million, the full amount appropriated in FY 2021 for the State Criminal Alien Assistance Program (SCAAP). SCAAP, which reimburses State, local, and tribal governments for prior year costs associated with incarcerating certain illegal criminal aliens, is unauthorized and poorly targeted. This program represents a general revenue transfer to States that neither focuses resources on immigration enforcement nor fully reimburses their detention costs. In 2018, the reimbursement rate was about 24 cents on the dollar, with just four States—California, Florida, New York, and Texas—receiving over two-thirds of available funds. Enacting the rescission would eliminate the program for FY 2021.

Rescission proposal no. R21-25

Agency: DEPARTMENT OF LABOR

Bureau: Employment and Training Administration

Account: Training and Employment Services (016-0174 2021/2022)

Amount proposed for rescission: $93,896,000

Justification:

The proposal would rescind $94 million, the full amount appropriated in FY 2021 for the Migrant and Seasonal Farmworker Training program (MSFW). The program is duplicative in that it creates a parallel training system for migrant and seasonal farmworkers, who are eligible to receive services through the core Workforce Innovation and Opportunity Act formula programs. Two programs providing the same services to the same population is duplicative and unnecessary. Enacting the rescission would eliminate MSFW, the smaller of the two duplicative programs serving the population.

Rescission proposal no. R21-26

Agency: DEPARTMENT OF LABOR

Bureau: Occupational Safety and Health Administration

Account: Salaries and Expenses (016-0400 2021/2021)

Amount proposed for rescission: $11,787,000

Justification:

This proposal would rescind $12 million, a portion of the $592 million appropriated in FY 2021 for the Occupational Training and Health Administration (OSHA). Through the Susan Harwood Training Grants program, OSHA provides competitive grants to non-profit organizations to develop and conduct occupational safety and health training programs and presentations. This is an unnecessary and an ineffective practice, and OSHA has no evidence that the program leads to improvements in workplace safety and health. Enacting the rescission would eliminate new grants.

Rescission proposal no. R21-27

Agency: DEPARTMENT OF LABOR

Bureau: Departmental Management

Account: Salaries and Expenses (016-0165 2021/2022)

Amount proposed for rescission: $60,000,000

Justification:

This proposal would rescind $60 million, a portion of the funding appropriated in FY 2021 for the Bureau of International Labor Affairs (ILAB). ILAB provides grants to promote worker protection oversees. ILAB's grants do not represent a core Government function, and many of its grants are awarded noncompetitively. Enacting the rescission would eliminate funding for ILAB's grants in FY 2021, but would not impact the funding provided in the United States-Mexico-Canada Agreement Implementation Act for grants to promote worker protection in Mexico.

Rescission proposal no. R21-28

Agency: DEPARTMENT OF STATE

Bureau: Administration of Foreign Affairs

Account: Educational and Cultural Exchange Programs (019-0209/X)

Amount proposed for rescission: $430,000,000

Justification:

This proposal would rescind $430 million of the $740 million appropriated in FY 2021 for Educational and Cultural Exchanges (ECE). Through ECE, the Department of State currently manages over 75 active academic, professional, and cultural exchange programs. People to people exchange programs no longer need the enacted level of funding given that over 1 million students typically study in the United States annually without any Department of State support. Wasteful examples of exchange programs include $3 million for various youth Tech Camps and $4 million for an exchange program with wealthy Germany. Enacting the rescission would direct the Department of State to reduce the number of exchange programs to a core few, which would allow the Department to focus its resources on those programs that have demonstrated results and support strategic foreign policy objectives that benefit Americans.

Rescission proposal no. R21-29

Agency: DEPARTMENT OF STATE

Bureau: International Organizations and Conferences

Account: Contributions to International Organizations (019-1126 2021/2021)

Amount proposed for rescission: $540,000,000

Justification:

This proposal would rescind $540 million of the $1.5 billion in funding appropriated in FY 2021 for the Contributions to International Organizations (CIO) account. The CIO account funds assessments to the United Nations (UN) and other international organizations to which the United States belongs. These funds would pay U.S. assessments to organizations and programs whose results are unclear, do not directly affect U.S. national security interests, or act against the interests of the American people. Enacting the rescission would provide partial payments to some organizations to clearly demonstrate the expectation that they achieve savings for the United States from greater accountability, efficiencies, and work to have equitable cost-sharing among other members.

Rescission proposal no. R21-30

Agency: DEPARTMENT OF STATE

Bureau: International Organizations and Conferences

Account: Contributions for International Peacekeeping Activities (019-1124 2021/2021)

Amount proposed for rescission: $377,000,000

Justification:

This proposal would rescind $377 million of the $1.5 billion in funding appropriated in FY 2021 for the Contributions to International Peacekeeping Activities (CIPA) account. The CIPA account provides funds for the United States' contributions toward the expenses associated with United Nations (UN) peacekeeping operations for which costs are distributed among UN members based on a scale of assessments. These funds constitute U.S. contributions to UN peacekeeping activities in excess of the FY 2021 Budget request level. Their rescission will reinforce the need for UN constraints on peacekeeping costs, elimination of missions as conditions warrant, and achievement of greater operational and management efficiencies. Enacting the rescission would not terminate any peacekeeping missions, but would defer a third of the U.S. payments to next year, and reinforce the expectation that the UN should increase accountability, reduce costs, and develop a fairer system of burden sharing that requires greater contributions from other nations.

Rescission proposal no. R21-31

Agency: DEPARTMENT OF STATE

Bureau: Other

Account: Global Health Programs (019-1031 2021/2022)

Amount proposed for rescission: $5,106,000,000

Justification:

This proposal would rescind $5.1 billion of the $7.3 billion appropriated in FY 2021 for Global Health Programs, which includes $1.1 billion in base funding and $4 billion in funding designated as an emergency requirement. The Global Health Programs account funds activities related to child and maternal health, HIV/AIDS, and infectious diseases. The $1.1 billion in base funding would fund programs in excess of the Administration's global health goals. The $4 billion in funding designated as an emergency requirement would provide U.S. funds to support international vaccination efforts well in advance of clearly stated U.S. policy to vaccinate at-risk populations within the United States before supporting international vaccination efforts. Enacting this rescission would maintain U.S. funding to meet America's burden-share target of 25 percent of all donor contributions and would increase the incentive for other donors to burden share.

Rescission proposal no. R21-32

Agency: DEPARTMENT OF STATE

Bureau: Other

Account: Global Health Programs (019-1031 2021/2025)

Amount proposed for rescission: $2,092,000,000

Justification:

This proposal would rescind $2.1 billion of the $5.9 billion appropriated in FY 2021 to the Department of State's Global Health Programs account to fund the President's Emergency Plan for AIDS Relief (PEPFAR). PEPFAR is an initiative of the U.S. Government to address the global HIV/AIDS epidemic. For bilateral programs, the proposed rescinded funds are well in excess of the FY 2021 Budget request level of $3.8 billion, which, when combined with prior-year excess funding, would fully fund PEPFAR's efforts to maintain all patients currently on antiretroviral treatment and would help target countries achieve epidemic control. For the Global Fund contribution, the FY 2021 Budget request level of $658 million would keep the United States on track to meet the Administration's $3.3 billion pledge for the Global Fund's sixth replenishment by 2022. Enacting this rescission would not affect any funding needs for FY 2021.

Rescission proposal no. R21-33

Agency: DEPARTMENT OF STATE

Bureau: Other

Account: Migration and Refugee Assistance (019-1143/X)

Amount proposed for rescission: $1,771,300,766

Justification:

This proposal would rescind $1.8 billion of the $3.4 billion appropriated in FY 2021 for the Migration and Refugee Assistance account. The account's primary purpose is to assist refugees and victims of conflict worldwide through contributions to international humanitarian organizations and to support the U.S. Government's program of refugee resettlement in the United States. These funds far exceed the FY 2021 Budget request level for humanitarian assistance, which combined with other available resources average nearly $9 billion annually—funding sufficient to allow the second highest annual U.S. humanitarian assistance programming ever in calendar years 2020 and 2021. Enacting the rescission would encourage greater contributions from other nations and provide savings to the U.S. taxpayer while retaining America's position as the largest single donor.

Rescission proposal no. R21-34

Agency: DEPARTMENT OF STATE

Bureau: Other

Account: Complex Crises Fund (072-1015/X)

Amount proposed for rescission: $30,000,000

Justification:

This proposal would rescind $30 million, the full amount appropriated in FY 2021 for the Complex Crises Fund. The Complex Crises Fund supports programs to prevent or respond to emerging or unforeseen complex crises overseas. These funds would duplicate efforts for preventing or responding to crises overseas and, consequently, are unnecessary given the existing programs and funds available for complex crises from multiple other foreign assistance accounts. Enacting the rescission would eliminate new funding for this account.

Rescission proposal no. R21-35

Agency: DEPARTMENT OF STATE

Bureau: Other

Account: International Narcotics Control and Law Enforcement (011-1022 2021/2022)

Amount proposed for rescission: $255,000,000

Justification:

This proposal would rescind $255 million in unrequested funds of the $1.4 billion appropriated in FY 2021 for International Narcotics Control and Law Enforcement (INCLE). The INCLE program funds programs to counter illicit trafficking in narcotics, people, wildlife, and other forms of transnational crime. These funds would be used for programs that are not needed to implement the Administration's National Security Strategy or other important policy objectives. In addition to eliminating unnecessary funding for a host of bilateral programs, a portion of the funding proposed for reduction is earmarked by the Congress for projects that would be considered special interest pet projects if funded domestically. Enacting the rescission would result in funding key programs with a nexus to U.S. national security, while reducing funding for political pet projects or programs without a clear nexus to U.S. national security.

Rescission proposal no. R21-36

Agency: DEPARTMENT OF STATE

Bureau: Other

Account: Democracy Fund (019-1121 2021/2022)

Amount proposed for rescission: $290,700,000

Justification:

This proposal would rescind $291 million, the full amount appropriated in FY 2021 for the Democracy Fund. Democracy Fund-supported programs claim to monitor and promote human rights and democracy worldwide. These types of programs are funded through multiple other accounts. Enacting funds through this account unnecessarily restricts the Administration's ability to program foreign assistance funds in priority sectors beyond democracy and human rights, and when combined with other accounts, the funding level provided exceeds an appropriate foreign assistance level. Enacting this rescission would eliminate new funding for the Democracy Fund.

Rescission proposal no. R21-37

Agency: DEPARTMENT OF STATE

Bureau: Other

Account: Payment to the Asia Foundation (019-0525/X)

Amount proposed for rescission: $16,617,000

Justification:

This proposal would rescind $17 million of the $20 million appropriated in FY 2021, the remaining unobligated balance, for The Asia Foundation (TAF). TAF is a non-profit international development organization with programs across the region. These funds would be used to supplement TAF's fundraising, which duplicates activities carried out by the U.S. Agency for International Development. It is highly unusual for private organizations to receive a direct appropriation with no direct leadership from the Executive Branch to provide oversight. The Administration continues to support ending dedicated funding for organizations that may effectively serve niche missions, but which are not critical to the conduct of U.S. foreign policy and which duplicate the efforts of other Federal programs or the non-profit and private sectors. Enacting the rescission would eliminate the dedicated appropriation to TAF.

Rescission proposal no. R21-38

Agency: DEPARTMENT OF STATE

Bureau: Other

Account: East-West Center (019-0202 2021/2021)

Amount proposed for rescission: $16,405,000

Justification:

This proposal would rescind $16 million of the $20 million appropriated in FY 2021, the remaining unobligated balance, for the East-West Center (EWC). EWC is a cultural and educational exchange center based in Hawaii. The EWC duplicates activities carried out by the Department of State's Educational and Cultural Affairs Bureau, and due to its non-profit status can compete for grant funding rather than receive a dedicated appropriation. Enacting the rescission would eliminate EWC's dedicated appropriation, and require the Center to compete for Federal grant funding to continue operations.

Rescission proposal no. R21-39

Agency: INTERNATIONAL ASSISTANCE PROGRAMS

Bureau: Millennium Challenge Corporation

Account: Millennium Challenge Corporation (524-2750/X)

Amount proposed for rescission: $112,000,000

Justification:

This proposal would rescind $112 million of the $912 million appropriated in FY 2021 for the Millennium Challenge Corporation (MCC). MCC provides development assistance to address binding constraints to economic growth in worthy countries. While MCC's programs are generally viewed as effective, MCC has had difficulty fully obligating available funding, resulting in excessive unobligated balances that currently exceed $3 billion. Enacting this rescission will have no programmatic effect as this excess funding would only add to the program's unobligated balances.

Rescission proposal no. R21-40

Agency: INTERNATIONAL ASSISTANCE PROGRAMS

Bureau: International Security Assistance

Account: Economic Support Fund (072-1037 2021/2022)

Amount proposed for rescission: $241,040,000

Justification:

This proposal would rescind $241 million of the $3.9 billion appropriated in FY 2021 for the Economic Support Fund (ESF). ESF is used to provide economic support for countries beyond what could be justified as development assistance in order to promote economic or political stability. These funds were specifically earmarked for the West Bank and Gaza, and Burma for democracy, education, and economic development programs in addition to $101 million that was earmarked for the Central America Regional Security Initiative. Enacting the rescission would eliminate this economic assistance at a time when such resources could be better used domestically.

Rescission proposal no. R21-41

Agency: INTERNATIONAL ASSISTANCE PROGRAMS

Bureau: International Security Assistance

Account: Foreign Military Financing Program (011-1082 2021/2021)

Amount proposed for rescission: $500,000,000

Justification:

This proposal would rescind $500 million of the $6.2 billion appropriated in FY 2021 for the Foreign Military Financing (FMF) program. The FMF program provides grant assistance to provide American-made military equipment and services to key partners and allies abroad. The FY 2021 appropriation for FMF can be significantly reduced consistent with the President's foreign policy priorities and the FY 2021 Budget request. Enacting this rescission would eliminate $500 million in new grants not requested in the FY 2021 Budget request, but maintain a $5.7 billion annual program, which includes fully funding America's Memorandum of Understanding commitments to Israel and Jordan, longstanding support for Egypt, and other Administration priorities such as countering Chinese and Russian influence.

Rescission proposal no. R21-42

Agency: INTERNATIONAL ASSISTANCE PROGRAMS

Bureau: International Security Assistance

Account: International Military Education and Training (011-1081 2021/2021)

Amount proposed for rescission: $3,000,000

Justification:

This proposal would rescind $3 million of the $113 million appropriated in FY 2021 for International Military Education and Training. These funds would be used for training and military education in excess of what was identified as necessary to meet national security objectives in the FY 2021 Budget request. Enacting the rescission would still provide the necessary funding for priority programs including new funding for countering Russian malign influence.

Rescission proposal no. R21-43

Agency: INTERNATIONAL ASSISTANCE PROGRAMS

Bureau: Multilateral Assistance

Account: Global Environment Facility (011-0066 2021/2022)

Amount proposed for rescission: $139,575,000

Justification:

This proposal would rescind $140 million, the full amount appropriated in FY 2021 for contributions to the Global Environment Facility (GEF). The GEF provides funding to developing countries to meet their commitments under international environmental agreements. The funds appropriated for the U.S. contribution to the GEF in FY 2019 and FY 2020 are sufficient to complete the U.S. pledge to the GEF without a U.S. contribution in FY 2021 or FY 2022, and therefore the funding appropriated in FY 2021 is unnecessary. Enacting the rescission would have no effect on the U.S Government's ability to meet its pledge to the GEF.

Rescission proposal no. R21-44

Agency: INTERNATIONAL ASSISTANCE PROGRAMS

Bureau: Multilateral Assistance

Account: Contribution to the International Fund for Agricultural Development (011-1039 2021/2022)

Amount proposed for rescission: $26,581,000

Justification:

This proposal would rescind $27 million of the $33 million appropriated in FY 2021, the remaining unobligated balance, for payment to the International Fund for Agricultural Development (IFAD). IFAD is a United Nations specialized agency that provides agricultural programs focused mainly on remote rural areas of poor countries. This funding is duplicative and wasteful, as the U.S. Government can better achieve its food security objectives through its bilateral foreign assistance programs. Enacting the rescission would remove U.S. monetary support for IFAD, but not affect achievement of U.S. food security objectives.

Rescission proposal no. R21-45

Agency: INTERNATIONAL ASSISTANCE PROGRAMS

Bureau: Multilateral Assistance

Account: International Organizations and Programs (019-1005 2021/2021)

Amount proposed for rescission: $387,500,000

Justification:

This proposal would rescind $388 million, the full amount appropriated in FY 2021 for the International Organizations and Programs account. This account provides voluntary contributions to various international organizations. These funds would be used for programs and contributions that are unnecessary or duplicative of other programs the United States already supports and that are not essential to U.S. economic growth or national security. These funds would be used for efforts that, in some cases, should be the responsibility of individual countries or overlap with support already provided under other programs. Enacting this rescission would eliminate this separate funding source and would still allow for key programs to be prioritized and funded from within other foreign assistance accounts including development and humanitarian assistance programs.

Rescission proposal no. R21-46

Agency: INTERNATIONAL ASSISTANCE PROGRAMS

Bureau: Multilateral Assistance

Account: Debt Restructuring (011-0091 2021/2023)

Amount proposed for rescission: $15,000,000

Justification:

This proposal would rescind $15 million, the full amount appropriated in FY 2021 for Tropical Forest and Coral Reef Conservation Act (TFCCA) program. The TFCCA programming can be characterized as a “debt-for-nature” swap, where the U.S. Government offers eligible developing countries options to relieve certain official debt owed in exchange for those countries engaging in their own tropical forest or coral reef conservation activities. These funds do not support a national security priority and in fact provide no clear benefit to the United States. If other countries place value in their tropical forest or coral reef ecosystems, they can act independently to provide conservation without requiring U.S. incentives that benefit them. Enacting the rescission would eliminate funding for a program not needed to achieve Administration objectives.

Rescission proposal no. R21-47

Agency: INTERNATIONAL ASSISTANCE PROGRAMS

Bureau: Agency for International Development

Account: Development Assistance (072-1021 2021/2022)

Amount proposed for rescission: $2,220,960,000

Justification:

This proposal would rescind $2.2 billion of the $3.5 billion appropriated in FY 2021 for Development Assistance (DA). DA funds are used by the U.S. Agency for International Development to help developing countries achieve self-sustaining growth. These funds have been appropriated in excess of amounts needed to implement the National Security Strategy and achieve core U.S. strategic objectives. Enacting the rescission would reduce excess U.S. Government spending in foreign countries on programs related to governance, education, and social services which have demonstrated no clear return on investment to U.S. taxpayers at a time when resources are needed for such programs domestically.

Rescission proposal no. R21-48

Agency: INTERNATIONAL ASSISTANCE PROGRAMS

Bureau: Agency for International Development

Account: Assistance for Europe, Eurasia and Central Asia (072-0306 2021/2022)

Amount proposed for rescission: $770,334,000

Justification:

This proposal would rescind $770 million, the full amount appropriated in FY 2021 for the Assistance for Europe, Eurasia, and Central Asia (AEECA) account. The purpose of this account is to promote economic and political stability in European, Eurasian, and Central Asian countries. Priority funding needed to implement the National Security Strategy and achieve core U.S. strategic objectives in these countries will be provided through the Economic Support Fund account. Enacting the rescission would mean policy priorities in this region would be funded through the same account structure as from FY 2013 to FY 2015.

Rescission proposal no. R21-49

Agency: INTERNATIONAL ASSISTANCE PROGRAMS

Bureau: Peace Corps

Account: Peace Corps (011-0100 2021/2022)

Amount proposed for rescission: $9,000,000

Justification:

This proposal would rescind $9 million of the $411 million appropriated in FY 2021 for the Peace Corps. The Peace Corps seeks to promote world peace and understanding by sending volunteers to help meet the basic needs of the poorest people in less developed countries. The funds are in excess of funds needed by the Peace Corps to further their mission. Enacting the rescission would not affect achieving the programs' objectives given the difficulty in carrying out these programs during the pandemic.

Rescission proposal no. R21-50

Agency: INTERNATIONAL ASSISTANCE PROGRAMS

Bureau: Inter-American Foundation

Account: Inter-American Foundation (011-3100 2021/2022)

Amount proposed for rescission: $29,000,000

Justification:

This proposal would rescind $29 million of the $38 million appropriated in FY 2021 for the Inter-American Foundation (IAF). IAF provides small grants to grassroots civil society organizations in Latin America and the Caribbean to improve the quality of life for the poor, and strengthen participation, accountability, and democratic processes. These funds are duplicative of small grants made by the U.S. Agency for International Development despite a lack of evidence of the effectiveness of small grants for achieving development outcomes. Enacting the rescission would have minimal programmatic impact, while providing costs needed to close the organization.

Rescission proposal no. R21-51

Agency: INTERNATIONAL ASSISTANCE PROGRAMS

Bureau: African Development Foundation

Account: United States African Development Foundation (011-0700 2021/2022)

Amount proposed for rescission: $23,000,000

Justification:

This proposal would rescind $23 million of the $33 million appropriated in FY 2021 for the African Development Foundation (ADF). ADF provides small grants to small businesses, non-governmental organizations, and other grassroots groups in Africa to address social and economic needs of local communities. These funds are duplicative of small grants made by the U.S. Agency for International Development despite a lack of evidence of the effectiveness of small grants for achieving development outcomes. Enacting the rescission would have minimal programmatic impact, while providing costs needed to close the organization.

Rescission proposal no. R21-52

Agency: DEPARTMENT OF THE TREASURY

Bureau: Departmental Offices

Account: Community Development Financial Institutions Fund Program Account (020-1881 2021/2021)

Amount proposed for rescission: $15,000,000

Justification:

This proposal would rescind $15 million of the $29 million appropriated in FY 2021 for administrative expenses of the Community Development Financial Institutions Fund (CDFI Fund). The CDFI Fund administers discretionary grant and direct loan programs including the CDFI Program, the Bank Enterprise Program, the Native American CDFI Assistance Program, the Healthy Food Financing Initiative, the Small Dollar Loan Program, and the Economic Mobility Corps. The CDFI Industry has matured, and these institutions should have access to private capital needed to build capacity, extend credit, and provide financial services to the communities they serve. Enacting the rescission would eliminate administrative expenses for the CDFI Fund's discretionary grant and direct loan programs. The remaining funds would be used for administration of the Bond Guarantee Program, the New Markets Tax Credit Program, and other ongoing activity of the CDFI Fund including certification and compliance monitoring for all programs.

Rescission proposal no. R21-53

Agency: DEPARTMENT OF THE TREASURY

Bureau: Departmental Offices

Account: Community Development Financial Institutions Fund Program Account (020-1881 2021/2022)

Amount proposed for rescission: $241,000,000

Justification:

This proposal would rescind $241 million, the full amount appropriated in FY 2021 for the Community Development Financial Institutions Fund (CDFI Fund) program awards. The CDFI Fund administers discretionary grant and direct loan programs including the CDFI Program, the Bank Enterprise Program, the Native American CDFI Assistance Program, the Healthy Food Financing Initiative, the Small Dollar Loan Program, and the Economic Mobility Corps. The CDFI Industry has matured, and these institutions should have access to private capital needed to build capacity, extend credit, and provide financial services to the communities they serve. Enacting the rescission would eliminate funding for the CDFI Fund's five discretionary grant and direct loan programs.

Rescission proposal no. R21-54

Agency: CORPS OF ENGINEERS—CIVIL WORKS

Bureau: Corps of Engineers—Civil Works

Account: Water Infrastructure Finance and Innovation Program Account (096-3139 2021/2022)

Amount proposed for rescission: $2,200,000

Justification:

This proposal would rescind $2 million, the full amount appropriated in FY 2021 for the Army Corps Water Infrastructure Finance and Innovation program administrative expenses. The newly established program would expand the Army Corps, historically an engineering and construction agency, into project finance where it has no expertise providing Federal credit support for water resources projects. These funds would be used for the administrative costs of the program. The Army Corps should focus on building, not banking. Rescission of these funds (and the credit subsidy budget authority) would eliminate appropriated funding for the cost of issuing loans or loan guarantees and for associated administrative costs.

Rescission proposal no. R21-55

Agency: CORPS OF ENGINEERS—CIVIL WORKS

Bureau: Corps of Engineers—Civil Works

Account: Water Infrastructure Finance and Innovation Program Account (096-3139/X)

Amount proposed for rescission: $12,000,000

Justification:

This proposal would rescind $12 million, the full amount appropriated in FY 2021 for the Army Corps Water Infrastructure Finance and Innovation program credit subsidy. The newly established program would expand the Army Corps, historically an engineering and construction agency, into project finance where it has no expertise providing Federal credit support for water resources projects. These funds would be used for the subsidy costs of issuing loans and guarantees for water resources projects. The Army Corps should focus on building, not banking. Rescission of these funds (and the two-year budget authority for administrative expenses) would eliminate appropriated funding for the cost of issuing loans or loan guarantees and for associated administrative costs.

Rescission proposal no. R21-56

Agency: ENVIRONMENTAL PROTECTION AGENCY

Bureau: Environmental Protection Agency

Account: Science and Technology (068-0107 2021/2022)

Amount proposed for rescission: $212,266,000

Justification:

This proposal would rescind $212 million of the $475 million appropriated in FY 2021 in the Science and Technology account for the Environmental Protection Agency's (EPA) Office of Research and Development (ORD). ORD conducts research to support agency decision-making in protecting human health and the environment. The appropriated funds would be used for research activities that are not required to meet EPA's statutory obligations, including the issuance of grants for research and fellowships, which do not serve a central function of the Federal Government. Enacting the rescission would eliminate unnecessary activities in order to re-focus the EPA on core environmental statutory requirements.

Rescission proposal no. R21-57

Agency: ENVIRONMENTAL PROTECTION AGENCY

Bureau: Environmental Protection Agency

Account: Environmental Programs and Management (068-0108 2021/2022)

Amount proposed for rescission: $7,928,358

Justification:

This proposal would rescind $8 million of the $9 million appropriated in FY 2021, the remaining unobligated balance, for the Environmental Protection Agency's (EPA) Environmental Education (EE) program. The EE program provides guidance and financial support for education and stewardship activities. The appropriated funds would be used for grants for local education and stewardship projects such as planting school gardens, establishing youth summer camps, and field trips to local streams, which should not be a funding responsibility of the Federal Government. Furthermore, these programs may inappropriately encourage political activism among its recipients. Enacting the rescission would eliminate the Environmental Education program.

Rescission proposal no. R21-58

Agency: ENVIRONMENTAL PROTECTION AGENCY

Bureau: Environmental Protection Agency

Account: Environmental Programs and Management (068-0108 2021/2022)

Amount proposed for rescission: $9,109,000

Justification:

This proposal would rescind $9 million of the $12 million appropriated in FY 2021 for the Environmental Protection Agency's (EPA) Environmental Justice (EJ) program. The excessive appropriated funds would be used for the EJ hotline and EJ trainings, which are not required to meet EPA's statutory obligations. For example, the EJ Small Grants Program has prompted community gardening, improving the appearance of vacant urban lots, documenting land-use history before urban development, and training residents to participate in public debates on environmental issues. Enacting the rescission would streamline the EJ program to provide targeted support to EJ communities where it can be most effective.

Rescission proposal no. R21-59

Agency: ENVIRONMENTAL PROTECTION AGENCY

Bureau: Environmental Protection Agency

Account: State and Tribal Assistance Grants (068-0103/X)

Amount proposed for rescission: $509,053,000

Justification:

This proposal would rescind $509 million of the $1.1 billion appropriated in FY 2021 for the Environmental Protection Agency's (EPA) Categorical Grants. These programs fund grants, including associated program support costs, for States, federally recognized Tribes, interstate agencies, tribal consortia, and air pollution control agencies for multi-media or single media pollution prevention, control and abatement, and related activities. These funds represent Federal investment in State environmental activities that go beyond EPA's statutory requirements. Enacting the rescission would prevent overreach and align Federal funding with the requirements laid out in environmental statutes.

Rescission proposal no. R21-60

Agency: ENVIRONMENTAL PROTECTION AGENCY

Bureau: Environmental Protection Agency

Account: State and Tribal Assistance Grants (068-0103/X)

Amount proposed for rescission: $80,000,000

Justification:

This proposal would rescind $80 million of the $90 million appropriated in FY 2021 for the Diesel Emissions Reductions Act (DERA) program. The program funds grants, loans, and rebates to retrofit, rebuild, or replace older diesel engines in order to reduce harmful diesel emissions. The appropriated amount is unnecessary given that: 1) previous appropriations have significantly increased funding for the DERA program (e.g., a 45 percent increase from FY 2017 to FY 2020); 2) pollution emissions from the legacy fleet will be reduced over time without additional DERA funding as portions of the fleet turn over and are replaced with new engines that meet modern emissions standards; and 3) the 2016 settlement with Volkswagen made $2.7 billion available for similar projects. Enacting the rescission would reduce funding to $10 million for the program.

Rescission proposal no. R21-61

Agency: COMMISSION OF FINE ARTS

Bureau: Commission of Fine Arts

Account: National Capital Arts and Cultural Affairs (323-2602 2021/2021)

Amount proposed for rescission: $5,000,000

Justification:

This proposal would rescind $5 million, the full amount appropriated in FY 2021 for the National Capital Arts and Cultural Affairs grant program. The National Capital Arts and Cultural Affairs grant program provides general operating support to larger artistic and cultural institutions operating in the District of Columbia. The Federal Government should not be using taxpayer dollars to subsidize local performing arts organizations including within the District of Columbia, especially when live performances have been essentially shut down by the Mayor of the District of Columbia. Enacting the rescission would eliminate the program.

Rescission proposal no. R21-62

Agency: CORPORATION FOR NATIONAL AND COMMUNITY SERVICE

Bureau: Corporation for National and Community Service

Account: Operating Expenses (485-2728 2021/2021)

Amount proposed for rescission: $483,469,244

Justification:

This proposal would rescind $483 million of the $843 million appropriated in FY 2021 for the AmeriCorps State and National (ASN) grants and AmeriCorps Volunteers in Service to America (VISTA) grants. These funds would be used to engage individuals in paid volunteer service, which does not serve a central function of the Federal Government. Americans are extremely generous in giving their time and money to charity, and they make individual decisions about which charities provide valuable services to society. There is little justification for the Federal Government to circumvent and centralize this process through its taxing and spending decisions. In addition, the Government Accountability Office and the Corporation for National and Community Service Inspector General have documented several instances of improper uses of ASN and VISTA grants by grantees, including lobbying. Enacting this rescission would eliminate FY 2021 grant funding for both the ASN and VISTA programs, while allowing for ongoing administration of existing grants, including grant closeout activities.

Rescission proposal no. R21-63

Agency: CORPORATION FOR NATIONAL AND COMMUNITY SERVICE

Bureau: Corporation for National and Community Service

Account: National Service Trust (485-8267/X)

Amount proposed for rescission: $185,000,000

Justification:

This proposal would rescind $185 million, the full amount appropriated in FY 2021 for the National Service Trust account. The National Service Trust account provides funds for educational awards to eligible volunteers who have completed a term of service. If the proposed rescissions to the AmeriCorps State and National and AmeriCorps Volunteers in Service to America grants are effectuated, these funds would not be necessary and should likewise be rescinded. Americans are extremely generous in giving their time and money to charity, and they make individual decisions about which charities provide valuable services to society. There is little justification for the Federal Government to circumvent and centralize this process through its taxing and spending decisions. Enacting this rescission would prevent the agency from providing additional educational awards.

Rescission proposal no. R21-64

Agency: DISTRICT OF COLUMBIA

Bureau: District of Columbia General and Special Payments

Account: Federal Payment for Resident Tuition Support (020-1736/X)

Amount proposed for rescission: $40,000,000

Justification:

This proposal would rescind $40 million, the full amount appropriated to the District of Columbia (DC) in FY 2021 for Resident Tuition Support. These funds would be used to subsidize college tuition costs for DC residents at the expense of Federal taxpayers. DC residents seeking to enroll in college are eligible for Federal programs available to all Americans, including Pell Grants, Federal student loans, and the American Opportunity Tax Credit. Enacting the rescission would eliminate the program.

Rescission proposal no. R21-65

Agency: DISTRICT OF COLUMBIA

Bureau: District of Columbia General and Special Payments

Account: Federal Payment to the District of Columbia Water and Sewer Authority (020-4446/X)

Amount proposed for rescission: $8,000,000

Justification:

This proposal would rescind $8 million, the full amount appropriated in FY 2021 for the Federal Payment to the District of Columbia (DC) Water and Sewer Authority. These funds would be used for the implementation of the Combined Sewer Overflow Long-Term Plan, which should be paid by ratepayers in the District, not Federal taxpayers. Enacting the rescission would eliminate Federal supplemental funding for this project but would not eliminate the District's progress on the program.

Rescission proposal no. R21-66

Agency: NATIONAL ENDOWMENT FOR THE ARTS

Bureau: National Endowment for the Arts

Account: Grants and Administration (417-0100/X)

Amount proposed for rescission: $110,000,000

Justification:

This proposal would rescind $110 million of the $168 million appropriated for operations of the National Endowment for the Arts. The National Endowment for the Arts provides assistance to organizations and individuals for projects and productions in the arts. These grants are not a Federal responsibility and consequently do not need Federal dollars. Enacting the rescission would allow orderly termination of the agency as requested in the FY 2021 Budget.

Rescission proposal no. R21-67

Agency: NATIONAL ENDOWMENT FOR THE HUMANITIES

Bureau: National Endowment for the Humanities

Account: Grants and Administration (418-0200/X)

Amount proposed for rescission: $118,000,000

Justification:

This proposal would rescind $118 million of the $168 million appropriated for operations of the National Endowment for the Humanities. The National Endowment for the Humanities provides assistance to organizations for support of activities in the humanities. These grants are not a Federal responsibility and consequently do not need Federal dollars. Enacting the rescission would allow orderly termination of the agency as requested in the FY 2021 Budget.

Rescission proposal no. R21-68

Agency: PRESIDIO TRUST

Bureau: Presidio Trust

Account: Presidio Trust (95-4331/X)

Amount proposed for rescission: $20,000,000

Justification:

This proposal would rescind $20 million, the full amount appropriated in FY 2021 for the Presidio Trust. The Presidio Trust is the Government agency charged with operating the Presidio of San Francisco outdoor recreation and sightseeing park without taxpayer support. This unrequested funding amounts to a congressional earmark for the Trust, which otherwise operates using lease revenues and other non-federally appropriated funding sources. Enacting the rescission would require the Trust to meet its mission using current resources.

Rescission proposal no. R21-69

Agency: NATIONAL GALLERY OF ART

Bureau: National Gallery of Art

Account: Salaries and Expenses (033-0200 2021/2022)

Amount proposed for rescission: $6,068,000

Justification:

This proposal would rescind $6 million of the $153 million appropriated for operations and maintenance of the National Gallery of Art, which houses a collection of both American and European art. These funds are not necessary to meet the Federal obligations that sustain the National Gallery's mission. Enacting the rescission would reduce the amount provided to the level requested in the FY 2021 Budget to more effectively allocate the American people's money.

Rescission proposal no. R21-70

Agency: NATIONAL GALLERY OF ART

Bureau: National Gallery of Art

Account: Repair, Restoration and Renovation of Buildings (033-0201/X)

Amount proposed for rescission: $8,790,000

Justification:

This proposal would rescind $9 million of the $23 million appropriated for upkeep of the facilities of the National Gallery of Art, which houses a collection of both American and European art. These funds are not necessary to meet the Federal obligations that sustain the National Gallery's mission. Enacting the rescission would reduce the amount provided to the level requested in the FY 2021 Budget.

Rescission proposal no. R21-71

Agency: WOODROW WILSON INTERNATIONAL CENTER FOR SCHOLARS

Bureau: Woodrow Wilson International Center for Scholars

Account: Salaries and Expenses (033-0400 2021/2022)

Amount proposed for rescission: $5,800,000

Justification:

This proposal would rescind $6 million of the $14 million appropriated for operations of the Woodrow Wilson Center. The Center supports scholars with both public and private funds, however the Center is consistently appropriated in excess of the amount deemed necessary for core Federal responsibilities and activities. Enacting the rescission would reduce the amount provided to a level equal to funding requested in the FY 2021 Budget.

Rescission proposal no. R21-72

Agency: LEGISLATIVE BRANCH

Bureau: Botanic Garden

Account: Botanic Garden (009-0200 2021/2021)

Amount proposed for rescission: $9,514,500

Justification:

This proposal would rescind $10 million of the $13 million appropriated in FY 2021, the estimated remaining balance, for the U.S. Botanic Garden. The Botanic Garden is a museum that seeks to demonstrate the aesthetic, cultural, economic, therapeutic, and ecological importance of plants to the well-being of humankind. These funds would be used for the operating budget of the congressional Botanic Garden, which is not a core Article I legislative function. Enacting the rescission would eliminate taxpayer support for the program.

Rescission proposal no. R21-73

Agency: LEGISLATIVE BRANCH

Bureau: Botanic Garden

Account: Botanic Garden (009-0200 2021/2025)

Amount proposed for rescission: $6,225,000

Justification:

This proposal would rescind $6 million of the $8 million appropriated in FY 2021, the estimated remaining balance, for the U.S. Botanic Garden. The Botanic Garden is a museum that seeks to demonstrate the aesthetic, cultural, economic, therapeutic, and ecological importance of plants to the well-being of humankind. These funds would be used for special project staffing, facility improvements, and minor construction for the congressional Botanic Garden, which is not a core Article I legislative function. Enacting the rescission would eliminate taxpayer support for the program.

[FR Doc. 2021-01328 Filed 1-21-21; 8:45 am]

BILLING CODE 3110-01-P